DEPARTMENT OF HEALTH AND HUMAN SERVICES

Administration for Children and Families

Office of Planning, Research and Evaluation; Grant Award to Urban Family Council

AGENCY: Office of Planning, Research and Evaluation, ACF, DHHS.

ACTION: Award announcement.

SUMMARY: Notice is hereby given that a noncompetitive grant award is being made to Urban Family Council, Pennsylvania, to provide Abstinence-Only Education and related services for adolescents in public school, age 12-19 and their parents and guardians, in Philadelphia, Center, Cumberland, and Lycoming Counties of Pennsylvania. The amount of the grant is $229,152. This noncompetitive award was recommended by the Congress.

FOR FURTHER INFORMATION CONTACT: K.A. Jagannathan, Administration for Children and Families, Office of Planning, Research and Evaluation, 370 L'Enfant Promenade, SW., Washington, DC 20447, phone: (202) 205-4829.

Dated: August 4, 2005.
Naomi Goldstein,
Director, Office of Planning, Research and Evaluation.

[FR Doc. 05-15820 Filed 8-9-05; 8:45 am]

BILLING CODE 4184-01-P